DEPARTMENT OF JUSTICE

Antitrust Division

Notice Pursuant to the National Cooperative Research and Production Act of 1993 —; Development of Voluntary Standard (ANSI/ROV-1-200X) for Recreational Off-Highway Vehicles

Notice is hereby given that, on March 17, 2009, pursuant to section 6(a) of the National Cooperative Research and Production Act of 1993, 15 U.S.C. 5 4301 et seq. (“the Act”), Development of Voluntary Standard (ANSI/ROV-1-200X) for Recreational Off-Highway Vehicles (“DVSROV”) has filed written notifications simultaneously with the Attorney General and the Federal Trade Commission disclosing changes in its membership. The notifications were filed for the purpose of extending the Act's provisions limiting the recovery of antitrust plaintiffs to actual damages under specified circumstances. Specifically, BRP Inc., Valcourt, Quebec, Canada has been added as a party to this venture. Also, American Honda Motor Co., Inc., Torrance, CA and Kawasaki Motors Corp. U.S.A., Irvine, CA, have withdrawn as parties to this venture.

On July 24, 2008, DVSROV filed its original notification pursuant to section 6(a) of the Act. The Department of Justice published a notice in the Federal Register pursuant to section 6(b) of the Act on September 12, 200 (7 FR 53043).

Patricia A. Brink,
Deputy Director of Operations, Antitrust Division.

[FR Doc. E9-9395 Filed 4-23-09; 8:45 am]

BILLING CODE 4410-11-M